DEPARTMENT OF TRANSPORTATION

Federal Motor Carrier Safety Administration

[Docket No. FMCSA-2004-17195]

Qualification of Drivers; Exemption Applications; Vision

AGENCY: Federal Motor Carrier Safety Administration (FMCSA), DOT.

ACTION: Notice of applications for exemption from the vision standard; request for comments.

SUMMARY: This notice publishes the FMCSA's receipt of applications from 29 individuals for an exemption from the vision requirement in the Federal Motor Carrier Safety Regulations. If granted, the exemptions will enable these individuals to qualify as drivers of commercial motor vehicles (CMVs) in interstate commerce without meeting the vision standard prescribed in 49 CFR 391.41(b)(10).

DATES: Comments must be received on or before May 3, 2004.

ADDRESSES: You may submit comments identified by any of the following methods. Please identify your comments by the DOT DMS Docket Number FMCSA-2003-17195.

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the on-line instructions for submitting comments.

Instructions: All submissions must include the agency name and docket number for this notice. For detailed instructions on submitting comments and additional information on the rulemaking process, see the Public Participation heading of the SUPPLEMENTARY INFORMATION section of this document. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Ms. Sandra Zywokarte, Office of Bus and Truck Standards and Operations, (202) 366-2987, FMCSA, Department of Transportation, 400 Seventh Street, SW., Washington, DC 20590-0001. Office hours are from 7:45 a.m. to 4:15 p.m., e.t., Monday through Friday, except Federal holidays.

SUPPLEMENTARY INFORMATION:

Public Participation: The DMS is available 24 hours each day, 365 days each year. You can get electronic submission and retrieval help guidelines under the “help” section of the DMS Web site. If you want us to notify you that we received your comments, please include a self-addressed, stamped envelope or postcard or print the acknowledgement page that appears after submitting comments on-line.

Privacy Act: Anyone is able to search the electronic form of all comments received into any of our dockets by the name of the individual submitting the comment (or signing the comment, if submitted on behalf of an association, business, labor union, etc.). You may review the Department of Transportation's complete Privacy Act Statement in the Federal Register published on April 11, 2000 (volume 65, number 70, pages 19477-78), or you may visit http://dms.dot.gov.

Background

Under 49 U.S.C. 31315 and 31136(e), the FMCSA may grant an exemption for a 2-year period if it finds “such exemption would likely achieve a level of safety that is equivalent to, or greater than, the level that would be achieved absent such exemption.” The statute also allows the agency to renew exemptions at the end of the 2-year period. The 29 individuals listed in this notice have recently requested an exemption from the vision requirement in 49 CFR 391.41(b)(10), which applies to drivers of CMVs in interstate commerce. Accordingly, the agency will evaluate the qualifications of each applicant to determine whether granting the exemption will achieve the required level of safety mandated by the statute.

Qualifications of Applicants

1. Manuel A. Almeida

Mr. Almeida, age 56, underwent surgery for a retinal detachment in his left eye in 2000. The best-corrected visual acuity in his right eye is 20/20 and in the left, 20/400. His optometrist examined him in 2003 and certified, “In my opinion, Mr. Almeida has sufficient vision to perform the driving tasks required to operate a commercial vehicle.” Mr. Almeida submitted that he has driven tractor-trailer combinations for 35 years, accumulating 2.6 million miles. He holds a Class A commercial driver's license (CDL) from Massachusetts. His driving record for the last 3 years shows no accidents or convictions for moving violations in a CMV.

2. James C. Askin

Mr. Askin, 32, has amblyopia in his right eye. The visual acuity in his right eye is 20/400 and in the left, 20/20. His optometrist examined him in 2003 and stated, “It is my opinion that James C. Askin has sufficient vision to perform the driving tasks required to operate a commercial vehicle.” Mr. Askin reported that he has driven straight trucks for 2 years, accumulating 120,000 miles, and tractor-trailer combinations for 11 years, accumulating 1.5 million miles. He holds a Class A CDL from Florida. His driving record for the last 3 years shows no accidents and one conviction for a moving violation “ speeding “ in a CMV. He exceeded the speed limit by 10 mph.

3. Paul J. Bannon

Mr. Bannon, 39, experienced a retinal detachment in his right eye in 1981. His best-corrected visual acuity in the right eye is 20/200 and in the left, 20/20. Following an examination in 2003, his optometrist certified, “The critical issue is that Mr. Bannon has sufficient peripheral vision to operate a commercial vehicle. His best-corrected vision using both eyes is 20/20. This is also sufficient in the tasks required to operate a commercial vehicle.” Mr. Bannon submitted that he has driven straight trucks and tractor-trailer combinations for 18 years, accumulating 540,000 miles in the former and 180,000 miles in the latter. He holds a Class A CDL from Delaware. His driving record for the last 3 years shows no crashes or convictions for moving violations in a CMV.

4. Ernie E. Black

Mr. Black, 39, has amblyopia in his right eye. His best-corrected visual acuity in the right eye is 20/200 and in the left, 20/20. Following an examination in 2003, his optometrist certified, “In my medical opinion, he has more than ample vision to operate a commercial vehicle.” Mr. Black reported that he has driven straight trucks for 9 years, accumulating 270,000 miles. He holds a Class C driver's license from North Carolina. His driving record for the last 3 years shows no crashes or convictions for moving violations in a CMV.

5. Gary O. Brady

Mr. Brady, 39, has amblyopia in his left eye. His best-corrected visual acuity in the right eye is 20/20 and in the left, 20/200. Following an examination in 2003, his optometrist certified, “My medical opinion is that Gary O. Brady has sufficient vision to perform the driving tasks required to operate a commercial vehicle.” Mr. Brady reported that he has driven straight trucks for 5 years, accumulating 350,000 miles, and tractor-trailer combinations for 8 years, accumulating 600,000 miles. He holds a Class A CDL from West Virginia. His driving record for the last 3 years shows no accidents or convictions for moving violations in a CMV.

6. Michael C. Branham

Mr. Branham, 47, has amblyopia in his right eye. His visual acuity in the right eye is 20/400 and in the left, 20/20. Following an examination in 2003, his optometrist certified, “My medical opinion is that he has sufficient vision to perform the driving tasks required to operate a commercial vehicle without glasses.” Mr. Branham reported that he has driven tractor-trailer combinations for 24 years, accumulating 3.0 million miles. He holds a Class DM driver's license from South Carolina currently, but at the time of his application he held a Class AM CDL, now expired. His driving record for the last 3 years shows no crashes and one conviction for a moving violation “ speeding “ in a CMV. He exceeded the speed limit by 9 mph.

7. Stephen H. Goldcamp

Mr. Goldcamp, 49, has amblyopia in his left eye. His best-corrected visual acuity in the right eye is 20/20 and in the left, 20/200. His optometrist examined him in 2003 and noted he has “sufficient vision to perform driving tasks required to operate a commercial vehicle.” Mr. Goldcamp reported that he has driven straight trucks for 8 years, accumulating 272,000 miles, and tractor-trailer combinations for 16 years, accumulating 576,000 miles. He holds a Class A CDL from Ohio. His driving record for the last 3 years shows no accidents or convictions for moving violations in a CMV.

8. Steven F. Grass

Mr. Grass, 34, lost the vision in his left eye due to an injury at age 2. His best-corrected visual acuity in the right eye is 20/20. Following an examination in 2003, his optometrist certified, “Mr. Grass is very well adapted to using only the vision in his right eye. I believe that there is no reason for him to not be able to operate a commercial vehicle safely.” Mr. Grass reported that he has driven tractor-trailer combinations for 10 years, accumulating 453,000 miles. He holds a Class A CDL from New Mexico. His driving record for the last 3 years shows no crashes or convictions for moving violations in a CMV.

9. Donald E. Hathaway

Mr. Hathaway, 51, has amblyopia in his left eye. His best-corrected visual acuity in the right eye is 20/20 and in the left, 20/70. Following an examination in 2003, his optometrist certified, “It is my opinion that, with spectacle correction, Donald Hathaway has sufficient vision to perform the required tasks to operate a commercial vehicle.” Mr. Hathaway reported that he has driven straight trucks for 12 years, accumulating 420,000 miles, and tractor-trailer combinations for 18 years, accumulating 1.6 million miles. He holds a Class A CDL from California. His driving record for the last 3 years shows no crashes or convictions for moving violations in a CMV.

10. Michael S. Johannsen

Mr. Johannsen, 44, lost the vision in his left eye in 2000 due to injury. The visual acuity in his right eye is 20/15. Following an examination in 2003 his opththalmologist stated, “I believe that Mr. Johannsen has sufficient vision to perform the driving tasks required to operate a commercial vehicle.” Mr. Johannsen reported that he has driven straight trucks for 9 years, accumulating 207,000 miles. He holds a Class A CDL from Iowa. His driving record for the last 3 years shows no accidents or convictions for moving violations in a CMV.

11. Mearl C. Kennedy

Mr. Kennedy, 49, has amblyopia in his right eye. His best-corrected visual acuity in the right eye is 20/60 and in the left, 20/20. Following an examination in 2003, his ophthalmologist certified, “In my medical opinion, Mearl (Ken) Kennedy has sufficient vision to perform the task of operating a commercial vehicle.” Mr. Kennedy reported that he has driven straight trucks for 32 years, accumulating 480,000 miles. He holds a Class A CDL from Ohio. His driving record for the last 3 years shows no crashes or convictions for moving violations in a CMV.

12. Wai Fung King

Mr. King, 36, has amblyopia in his right eye. His best-corrected visual acuity in the right eye is 20/50 and in the left, 20/20. His ophthalmologist examined him in 2003 and noted, “Patient has sufficient vision to operate a commercial vehicle.” Mr. King submitted that he has driven straight trucks for 9 years, accumulating 252,000 miles. He holds a Class B CDL from Illinois. His driving record for the last 3 years shows no accidents or convictions for moving violations in a CMV.

13. Christopher J. Meerten

Mr. Meerten, 27, has a congenital cataract in his right eye. His visual acuity in the right eye is counting fingers and in the left, 20/15. Following an examination in 2003, his optometrist certified, “I believe he has sufficient vision to perform driving tasks required to operate a commercial vehicle.” Mr. Meerten reported that he has driven tractor-trailer combinations for 5 years, accumulating 20,000 miles. He holds a Class A CDL from Oregon. His driving record for the last 3 years shows no crashes or convictions for moving violations in a CMV.

14. William J. Miller

Mr. Miller, 55, has amblyopia in his left eye. His best-corrected visual acuity in the right eye is 20/20 and in the left, 20/60. His ophthalmologist examined him in 2003 and certified, “It is my medical opinion that Mr. Miller is as safe driving as someone with a much milder amblyopia. As such, I would urge that he be given a driver's license with the only restriction being the wearing of corrective lenses.” Mr. Miller reported that he has driven tractor-trailer combinations for 10 years, accumulating 1.0 million miles. He holds a Class A CDL from Virginia. His driving record for the last 3 years shows no accidents or convictions for moving violations in a CMV.

15. Robert J. Mohorter

Mr. Mohorter, 46, has a corneal scar and aphakia in his right eye due to an injury at age 8. His visual acuity in the right eye is light perception only and in the left, 20/20. Following an examination in 2003, his optometrist certified, “In my professional opinion, due to his excellent acuity and his full field of vision, Robert Mohorter has sufficient visual abilities to operate a commercial vehicle.” Mr. Mohorter reported that he has driven tractor-trailer combinations for 20 years, accumulating 3.0 million miles. He holds a Class AM CDL from New York. His driving record for the last 3 years shows no crashes or convictions for moving violations in a CMV.

16. James A. Mohr

Mr. Mohr, 59, lost his left eye due to an injury in 1954. His best-corrected visual acuity in the right eye is 20/20. Following an examination in 2003, his ophthalmologist certified, “It is my opinion that he has vision adequate enough to be certified as a commercial driver.” Mr. Mohr reported that he has driven straight trucks for 5 years accumulating 100,000 miles, and tractor-trailer combinations for 20 years, accumulating 2.0 million miles. He holds a Class A CDL from Montana. His driving record for the last 3 years shows no crashes and one conviction for a moving violation—speeding—in a CMV. He exceeded the speed limit by 18 mph.

17. Charles R. Murphy

Mr. Murphy, 53, has a retinal scar in his left eye due to injury 30 years ago. His best-corrected visual acuity in the right eye is 20/20 and in the left, 20/400. His optometrist examined him in 2003 and stated, “It is my medical opinion that this scar has been there for many years and that he has sufficient vision to perform the tasks to drive a commercial vehicle.” Mr. Murphy submitted that he has driven tractor-trailer combinations for 30 years, accumulating 3.6 million miles. He holds a Class A CDL from Texas. His driving record for the last 3 years shows no accidents and one conviction for a moving violation—“failure to obey traffic sign”—in a CMV.

18. Lacy L. Patterson

Mr. Patterson, 65, has amblyopia in his left eye. His best-corrected visual acuity in the right eye is 20/15 and in the left, 20/60. Following an examination in 2003, his optometrist certified, “In my medical opinion, Lacy Lavarn Patterson has sufficient vision to perform the driving tasks required to operate a commercial vehicle.” Mr. Patterson reported that he has driven tractor-trailer combinations for 42 years, accumulating 4.2 million miles. He holds a Class A CDL from North Carolina. His driving record for the last 3 years shows no crashes or convictions for moving violations in a CMV.

19. Roderick F. Peterson

Mr. Peterson, 33, lost the vision in his left eye due to trauma in childhood. The visual acuity in his right eye is 20/15. His ophthalmologist examined him in 2003 and stated, “I believe Mr. Peterson, in light of the fact that this was a childhood trauma, has developed excellent coping skills and should be able to drive commercial vehicles safely.” Mr. Peterson reported that he has driven straight trucks for 13 years, accumulating 390,000 miles. He holds a Class B CDL from Georgia. His driving record for the last 3 years shows no accidents or convictions for moving violations in a CMV.

20. Stephen P. Preslopsky

Mr. Preslopsky, 48, has had decreased vision in his left eye for 10 years due to injury. His best-corrected visual acuity in the right eye is 20/20 and in the left, counting fingers. Following an examination in 2003, his ophthalmologist certified, “It is my opinion that Mr. Preslopsky's vision is sufficient to operate a commercial vehicle, however, this is only from a medical standpoint since I do not know what is actually required to perform this task.” Mr. Preslopsky reported that he has driven straight trucks for 8 years, accumulating 220,000 miles, and tractor-trailer combinations for 15 years, accumulating 715,000 miles. He holds a Class A CDL from Florida. His driving record for the last 3 years shows no crashes or convictions for moving violations in a CMV.

21. Timothy J. Sands

Mr. Sands, 41, experienced nerve damage in his left eye due to an injury at age 14. His best-corrected visual acuity in the right eye is 20/20 and in the left, 20/400. His ophthalmologist examined in 2003 and stated, “It is my medical opinion that Mr. Sands does possess adequate vision, and that he does have sufficient visual field function in his injured eye and normal right eye to perform the driving tasks required to operate a commercial vehicle.” Mr. Sands reported that he has driven straight trucks for 12 years, accumulating 186,000 miles, and tractor-tractor combinations for 2 years, accumulating 82,000 miles. He holds a Class A CDL from Alaska. His driving record for the last 3 years shows no accidents or convictions for moving violations in a CMV.

22. Donald W. Sidwell

Mr. Sidwell, 66, experienced a retinal detachment in his right eye in 1989. His best-corrected visual acuity in the right eye is 20/200 and in the left, 20/20. Following an examination in 2003, his optometrist certified, “In my medical opinion, Mr. Sidwell has sufficient vision to perform the driving tasks required to operate a commercial vehicle.” Mr. Sidwell reported that he has driven straight trucks for 35 years, accumulating 350,000 miles, and tractor-trailer combinations for 14 years, accumulating 1.1 million miles. He holds a Class A CDL from Illinois. His driving record for the last 3 years shows no crashes or convictions for moving violations in a CMV.

23. David M. Smith

Mr. Smith, 35, has amblyopia in his left eye. His visual acuity in the right eye is 20/20 and in the left, 20/200. Following an examination in 2003, his optometrist certified, “I feel he would have sufficient vision to safely operate a commercial vehicle.” Mr. Smith reported that he has driven tractor-trailer combinations for 4 years, accumulating 240,000 miles. He holds a Class AM CDL from Illinois. His driving record for the last 3 years shows no crashes and one conviction for a moving violation—speeding—in a CMV. He exceeded the speed limit by 20 mph.

24. Jose M. Suarez

Mr. Suarez, 41, underwent laser treatment for a macular scar in his right eye in 1998. His best-corrected visual acuity in the right eye is 20/50 and in the left, 20/15. Following an examination in 2003, his ophthalmologist certified, “In my medical opinion he has sufficient vision to perform the driving tasks required to operate a commercial vehicle.” Mr. Suarez reported that he has driven tractor-trailer combinations for 9 years, accumulating 450,000 miles. He holds a Class A CDL from Texas. His driving record for the last 3 years shows no accidents or convictions for moving violations in a CMV.

25. Robert L. Swartz, Jr.

Mr. Swartz, 56, has amblyopia in his right eye. His best-corrected visual acuity in the right eye is 20/100 and in the left, 20/15. Following an examination in 2003, his optometrist certified, “I find no visual problems with Mr. Swartz driving a commercial vehicle.” Mr. Swartz reported that he has driven straight trucks for 26 years, accumulating 338,000 miles. He holds a Class B CDL from Ohio. His driving record for the last 3 years shows no crashes and one conviction for a moving violation—speeding—in a CMV. He exceeded the speed limit by 10 mph.

26. Elmer Kevin Thomas

Mr. Thomas, 40, has had reduced vision in his left eye for 3 years due to histoplasmosis. His best-corrected visual acuity in the right eye is 20/20 and in the left, only peripheral light perception. His optometrist examined him in 2003 and noted, “Kevin's daily performance and his good peripheral field results lead me to believe Kevin's vision is sufficient to operate a commercial vehicle.” Mr. Thomas reported that he has driven straight trucks and tractor-trailer combinations for 9 years, accumulating 234,000 miles in the former and 900,000 miles in the latter. He holds a Class A CDL from Ohio. His driving record for the last 3 years shows no accidents or convictions for moving violations in a CMV.

27. Robert L. Vaughn

Mr. Vaughn, 70, has amblyopia in his left eye. His best-corrected visual acuity in the right eye is 20/20 and in the left, 20/400. Following an examination in 2003, his ophthalmologist stated, “It is my medical opinion that the patient has sufficient vision to perform the driving tasks required to operate a commercial vehicle.” Mr. Vaughn submitted that he has driven tractor-trailer combinations for 30 years, accumulating 3.4 million miles. He holds a Class A CDL from South Dakota. His driving record for the last 3 years shows no accidents and one conviction for a moving violation—speeding—in a CMV. He exceeded the speed limit by 10 mph.

28. Richard G. Wendt

Mr. Wendt, 47, has amblyopia in his right eye. His visual acuity in the right eye is 20/200 and in the left, 20/20. Following an examination in 2003, his optometrist certified, “Mr. Wendt's vision remains unchanged since the first time I examined him August 6, 2001, and he retains visual function sufficient to operate a commercial vehicle.” Mr. Wendt reported that he has driven straight trucks for 23 years, accumulating 690,000 miles. He holds a Class B CDL from Mississippi. His driving record for the last 3 years shows no crashes or convictions for moving violations in a CMV.

29. Richard A. Yeager

Mr. Yeager, 55, has amblyopia in his right eye. His best-corrected visual acuity in the right eye is 20/100 and in the left, 20/20. His optometrist examined him in 2003 and stated, “My medical opinion is Richard Yeager has sufficient vision to perform driving tasks that are required to drive a commercial vehicle.” Mr. Yeager submitted that he has driven tractor-trailer combinations for 14 years, accumulating 1.8 million miles. He holds a Class A CDL from Georgia. His driving record for the last 3 years shows no accidents or convictions for moving violations in a CMV.

Request for Comments

In accordance with 49 U.S.C. 31315 and 31136(e), the FMCSA requests public comment from all interested persons on the exemption petitions described in this notice. We will consider all comments received before the close of business on the closing date indicated earlier in the notice.

Issued on: March 25, 2004.
Rose A. McMurray,
Associate Administrator for Policy and Program Development.

[FR Doc. 04-7243 Filed 3-31-04; 8:45 am]

BILLING CODE 4910-EX-P